DEPARTMENT OF THE INTERIOR

Minerals Management Service

Agency Information Collection Activities: Submitted for Office of Management and Budget (OMB) Review; Comment Request

AGENCY: Minerals Management Service (MMS), Interior.

ACTION: Notice of an extension of an information collection (1010-0091).

SUMMARY: To comply with the Paperwork Reduction Act of 1995 (PRA), we are notifying the public that we have submitted to OMB an information collection request (ICR) to renew approval of the paperwork requirements in the regulations under 30 CFR part 254, “Oil-Spill Response Requirements for Facilities Located Seaward of the Coast Line.” This notice also provides the public a second opportunity to comment on the paperwork burden of these regulatory requirements.

DATES: Submit written comments by December 20, 2006.

ADDRESSES: You may submit comments on this information collection directly to the Office of Management and Budget (OMB), Office of Information and Regulatory Affairs, OMB, Attention: Desk Officer for the Department of the Interior via OMB e-mail: (OIRA_DOCKET@omb.eop.gov); or by fax (202) 395-6566; identify with (1010-0091).

Submit a copy of your comments to the Department of the Interior, MMS, via:

• MMS's Public Connect on-line commenting system, https://ocsconnect.mms.gov. Follow the instructions on the Web site for submitting comments.

• E-mail MMS at rules.comments@mms.gov. Use Information Collection Number 1010-0091, in the subject line.

• Fax: 703-787-1093. Identify with Information Collection Number 1010-0091.

• Mail or hand-carry comments to the Department of the Interior; Minerals Management Service; Attention: Rules Processing Team (RPT); 381 Elden Street, MS-4024; Herndon, Virginia 20170-4817. Please reference “Information Collection 1010-0091” in your comments.

FOR FURTHER INFORMATION CONTACT: Cheryl Blundon, Regulations and Standards Branch, (703) 787-1607. You may also contact Cheryl Blundon to obtain a copy, at no cost, of the ICR and the regulations that require the subject collection of information.

SUPPLEMENTARY INFORMATION: Title: 30 CFR 254, “Oil-Spill Response Requirements for Facilities Located Seaward of the Coast Line.”

OMB Control Number: 1010-0091.

Abstract: The Federal Water Pollution Control Act (FWPCA), as amended by the Oil Pollution Act of 1990 (OPA), requires that a spill-response plan be submitted for offshore facilities prior to February 18, 1993. The OPA specifies that after that date, an offshore facility may not handle, store, or transport oil unless a plan has been submitted. This authority and responsibility are among those delegated to the Minerals Management Service (MMS) by Executive Order 12777. Regulations at 30 CFR part 254 establish requirements for spill-response plans for oil-handling facilities seaward of the coast line, including associated pipelines.

The MMS uses the information collected under 30 CFR 254 to determine compliance with OPA by owners/operators. Specifically, MMS needs the information to:

• Determine effectiveness of the spill-response capability of owners/operators.

• Review plans prepared under the regulations of a State and submitted to MMS to satisfy the requirements to ensure that they meet minimum requirements of OPA.

• Verify that personnel involved in oil-spill response are properly trained and familiar with the requirements of the spill-response plans and to witness spill-response exercises.

• Assess the sufficiency and availability of contractor equipment and materials.

• Verify that sufficient quantities of equipment are available and in working order.

• Oversee spill-response efforts and maintain official records of pollution events.

• Assess the efforts of owners/operators to prevent oil spills or prevent substantial threats of such discharges.

No proprietary, confidential, or sensitive information is collected. However, we will protect any information from respondents considered proprietary under the Freedom of Information Act (5 U.S.C. 552) and its implementing regulations (43 CFR part 2) and under regulations at 30 CFR parts 250, 251, and 252. Responses are mandatory.

Frequency: On occasion, monthly, annually, biennially, and triennially.

Estimated Number and Description of Respondents: Approximately 197 owners or operators of facilities located in both State and Federal waters seaward of the coast line.

Estimated Reporting and Recordkeeping “Hour” Burden: The estimated annual “hour” burden for this information collection is a total of 35,070 hours. In calculating the burdens, we assumed that respondents perform certain requirements in the normal course of their activities. We consider these to be usual and customary and took that into account in estimating the burden.

Citation 30 CFR 254 | Reporting requirement | Hour burden | Average number of annual responses | Annual burden hours
254.1(a) thru (d); 254.2(a); 254.3 thru 254.5; 254.7; 254.20 thru 254.29; 254.44(b) | Submit spill response plan for OCS facilities and related documents | 120 | 26 new plans | 3,120
254.1(e) | Request MMS jurisdiction over facility landward of coast line (no recent request received) | 0.5 | 2 requests | 1
254.2(b) | Submit certification of capability to respond to worst case discharge or substantial threat of such | 15 | 1 certification | 15
254.2(c); 254.30 | Submit revised spill response plan for OCS facilities at least every 2 years; notify MMS of no change | 36 1 | 177 revised plans 1 No change | 6,372 1
254.2(c) | Request deadline extension for submission of revised plan | 4 | 11 | 44
254.8 | Appeal MMS orders or decisions | Exempt under 5 CFR 1320.4(a)(2), (c) |  | 0
254.40 | Make records of all OSRO-provided services, equipment, personnel available to MMS | 5 | 20 | 100
254.41 | Conduct annual training; retain training records for 2 years | 25 | 197 owners/operators | 4,925
254.42(a) thru (e) | Conduct triennial response plan exercise; retain exercise records for 3 years | 110 | 134 exercises | 14,740
254.42(f) | Inform MMS of the date of any exercise (triennial) | 1 | 170 notifications | 170
254.43 | Inspect response equipment monthly; retain inspection & maintenance records for 2 years | 3.5 | 55 inspections × 12 months = 660 | 2,310
254.46(a) | Notify NRC of all oil spills from owner/operator facility | Burden would be included in the NRC inventory |  | 0
254.46(b) | Notify MMS of oil spills of one barrel or more from owner/operator facility; submit follow-up report | 2 | 61 notifications & reports | 122
254.46(c) | Notify MMS & responsible party of oil spills from operations at another facility | 2 | 24 notifications | 48
254.50; 254.51 | Submit response plan for facility in State waters by modifying existing OCS plan | 42 | 10 plans | 420
254.50; 254.52 | Submit response plan for facility in State waters following format for OCS plan | 100 | 9 plans | 900
254.50; 254.53 | Submit response plan for facility in State waters developed under State requirements | 89 | 18 plans | 1,602
254.54 | Submit description of oil-spill prevention procedures | 5 | 36 submissions | 180
Total Hour Burden |  |  | 1,557 | 35,070

Estimated Reporting and Recordkeeping “Non-Hour Cost” Burden: We have identified no paperwork “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice* * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on April 10, 2006, we published a Federal Register notice (71 FR 18113) announcing that we would submit this ICR to OMB for approval. The notice provided the required 60-day comment period. In addition, 30 CFR 254.9 displays the OMB control number, specifies that the public may comment at anytime on the collection of information required in the 30 CFR 254 regulations, and provides the address to which they should send comments. We have received no comments in response to those efforts.

If you wish to comment in response to this notice, you may send your comments to the offices listed under the ADDRESSES section of this notice. OMB has up to 60 days to approve or disapprove the information collection but may respond after 30 days. Therefore, to ensure maximum consideration, OMB should receive public comments by December 20, 2006.

Public Comment Procedures: MMS's practice is to make comments, including names and addresses of respondents, available for public review. If you wish your name and/or address to be withheld, you must state this prominently at the beginning of your comment. MMS will honor the request to the extent allowable by the law; however, anonymous comments will not be considered. There may be circumstances in which we would withhold from the record a respondent's identity, as allowable by the law. If you wish us to withhold your name and/or address, you must state this prominently at the beginning of your comment. In addition, you must present a rationale for withholding this information. This rationale must demonstrate that disclosure “would constitute an unwarranted invasion of privacy.” Unsupported assertions will not meet this burden. In the absence of exceptional, documentable circumstances, this information will be released. All submissions from organizations or businesses, and from individuals identifying themselves as representatives or officials of organizations or businesses, will be made available for public inspection in their entirety.

MMS Information Collection Clearance Officer: Arlene Bajusz, (202) 208-7744.

Dated: October 16, 2006.
E.P. Danenberger,
Chief, Office of Offshore Regulatory Programs.

[FR Doc. E6-19513 Filed 11-17-06; 8:45 am]

BILLING CODE 4310-MR-P